DEPARTMENT OF JUSTICE

Parole Commission

Notice of Meeting; Sunshine Act

Pursuant to the Government in the Sunshine Act (Pub. L. 94-409) [5 U.S.C. 552b].

Agency Holding Meeting: Department of Justice, United States Parole Commission.

Time and Date: 10 a.m., Thursday, March 30, 2006.

Place: 5550 Friendship Blvd., Fourth Floor, Chevy Chase, MD 20815.

Status: Open.

Matters To Be Considered: The following matters have been placed on the agenda for the open Parole Commission meeting:

1. Approval of minutes of Previous Commission Meeting.

2. Reports from the Chairman, Commissioners, Legal Office, Case Operations Section, Case Services Section, and Executive Office.

3. Discussion of Reprimand Sanction Hearings.

Agency Contact: Thomas W. Hutchison, Chief of Staff, United States Parole Commission, (301) 492-5990.

Dated: March 23, 2006.
Rockne Chickinell,
General Counsel, U.S. Parole Commission.

[FR Doc. 06-3021 Filed 3-24-06; 12:23 pm]

BILLING CODE 4410-31-M